DEPARTMENT OF THE INTERIOR

National Park Service

[NPS-WASO-NAGPRA-NPS0035905; PPWOCRADN0-PCU00RP14.R50000]

Notice of Inventory Completion: University of Tennessee, Department of Anthropology, Knoxville, TN

AGENCY: National Park Service, Interior.

ACTION: Notice.

SUMMARY: In accordance with the Native American Graves Protection and Repatriation Act (NAGPRA), the University of Tennessee, Department of Anthropology (UTK), has completed an inventory of human remains and associated funerary objects and has determined that there is a cultural affiliation between the human remains and associated funerary objects and Indian Tribes or Native Hawaiian organizations in this notice. The human remains and associated funerary objects were removed from Plymouth County, IA.

DATES: Repatriation of the human remains and associated funerary objects in this notice may occur on or after June 23, 2023.

ADDRESSES: Dr. Ozlem Kilic, University of Tennessee, Office of the Provost, 527 Andy Holt Tower, Knoxville, TN 37996-0152, telephone (865) 974-2454, email okilic@utk.edu and vpaa@utk.edu.

SUPPLEMENTARY INFORMATION: This notice is published as part of the National Park Service's administrative responsibilities under NAGPRA. The determinations in this notice are the sole responsibility of UTK. The National Park Service is not responsible for the determinations in this notice. Additional information on the determinations in this notice, including the results of consultation, can be found in the inventory or related records held by UTK.

Description

Human remains representing, at minimum, 43 individuals were removed from the Broken Kettle Mill Creek Cemetery site (13PM1), in Plymouth County, IA. The burials were discovered in 1964, when the landowner, Donald Banks, found ancestral human remains on the property. Banks contacted David Lilly of the Iowa Archaeological Society who excavated the site with Donald's brother, Roger Banks from September 6 to September 27, 1964. Following the excavation, these human remains were held by Banks. Correspondence on file at UTK indicates that they were likely transferred to William Bass in 1965, while he was at the University of Kansas (KU), and that Bass subsequently brought them to Knoxville in 1971, when he began working for the UTK Department of Anthropology. Radiocarbon dates submitted by D. R. Henning in 1969 indicate that Broken Kettle, 13PM1, was occupied between A.D. 960 and 1165. Broken Kettle is classified as part of the Mill Creek Phase/Culture. While Lilly and Banks did not explicitly date the cemetery, they did classify it as “fairly definite” Mill Creek, based on artifact types, and surmised the cemetery was even associated with the Broken Kettle site. Numerous dates obtained for Mill Creek Phase sites range from A.D. 810-1580; however, stratigraphic evidence has been used to posit a range of dates between A.D. 900-1400. The 12 associated funerary objects are six lots consisting of shells, four lots consisting of faunal remains, one lot consisting of lithics, and one lot consisting of rocks.

Human remains representing, at minimum, one individual were removed from the Kimball Mound site (13PM4) in Plymouth County, IA. These human remains are housed at UTK, but details concerning their removal and transfer to UTK are unknown. In 1939, Charles Keyes and Ellison Orr excavated the Kimball Mound site as Works Progress Administration (WPA) Project 3600, during which the burials of seven individuals were uncovered, and in 1963, Walter Klippel found a burial when he returned to the site with Dale Henning. Records at UTK indicate that in July of 1959, William Bass examined the ancestral remains of an individual from this site at the “Little Bend Camp.” Based on a pattern of practice, the human remains listed here were likely sent to Bass while he was at KU and then brought by him to Knoxville in 1971, when he began teaching at UTK. Alternatively, as Klippel also subsequently taught at UTK, it is possible that he effected the transfer to UTK.

All the above-described human remains have been identified as Native American based on documented association with ancient Native American sites classified as Mill Creek culture. Based on artifact type, site location, and mortuary practice, the Broken Kettle Mound and Kimball mounds were classified as part of the Mill Creek Culture. Numerous dates obtained for Mill Creek Phase sites range from A.D. 810-1580; however, stratigraphic evidence has been used to posit a range of dates between A.D. 900-1400. No associated funerary objects are present.

Mill Creek manifestations are grouped within the Initial variant of the Middle Missouri Tradition. Archeological and ethnohistorical evidence links later Middle Missouri groups with the Mandan and Hidatsa, who are present-day members of the Three Affiliated Tribes of the Fort Berthold Reservation, North Dakota.

Cultural Affiliation

The human remains and associated funerary objects in this notice are connected to one or more identifiable earlier groups, tribes, peoples, or cultures. There is a relationship of shared group identity between the identifiable earlier groups, tribes, peoples, or cultures and one or more Indian Tribes or Native Hawaiian organizations. The following types of information were used to reasonably trace the relationship: archeological, geographical, and historical.

Determinations

Pursuant to NAGPRA and its implementing regulations, and after consultation with the appropriate Indian Tribes and Native Hawaiian organizations, UTK has determined that:

• The human remains described in this notice represent the physical remains of 44 individuals of Native American ancestry.

• The 12 lots of objects described in this notice are reasonably believed to have been placed with or near individual human remains at the time of death or later as part of the death rite or ceremony.

• There is a relationship of shared group identity that can be reasonably traced between the human remains and associated funerary objects described in this notice and the Three Affiliated Tribes of the Fort Berthold Reservation, North Dakota.

Requests for Repatriation

Written requests for repatriation of the human remains and associated funerary objects in this notice must be sent to the Responsible Official identified in ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the human remains and associated funerary objects in this notice to a requestor may occur on or after June 23, 2023. If competing requests for repatriation are received, UTK must determine the most appropriate requestor prior to repatriation. Requests for joint repatriation of the human remains and associated funerary objects are considered a single request and not competing requests. UTK is responsible for sending a copy of this notice to the Indian Tribe identified in this notice.

Authority: Native American Graves Protection and Repatriation Act, 25 U.S.C. 3003, and the implementing regulations, 43 CFR 10.9, § 10.10, and § 10.14.

Dated: May 17, 2023.
Melanie O'Brien,
Manager, National NAGPRA Program.

[FR Doc. 2023-11010 Filed 5-23-23; 8:45 am]

BILLING CODE 4312-52-P